EXPORT-IMPORT BANK

[Public Notice 2013-0112]

Agency Information Collection Activities: Comment Request

AGENCY: Export-Import Bank of the United States.

ACTION: Submission for OMB Review and Comments Request.

Form Title: EIB 12-02-Credit Guarantee Facility Disbursement Approval Request.

SUMMARY: The Export-Import Bank of the United States (Ex-Im Bank), as a part of its continuing effort to reduce paperwork and respondent burden, invites the general public and other Federal Agencies to comment on the proposed information collection, as required by the Paperwork Reduction Act of 1995.

Ex-Im Bank has developed an electronic disbursement approval processing system for guaranteed lenders with Credit Guarantee Facilities. After a Credit Guarantee Facility (CGF) has been authorized by Ex-Im Bank and legal documentation has been completed, the Lender will obtain and review the required disbursement documents (e.g. invoices, bills of lading, Exporter's Certificates, etc.) and will disburse the proceeds of the loan for eligible goods and services. The Lender will access and complete an electronic questionnaire through ExIm Online inputting key data and requesting approval of the disbursement. Ex-Im Bank's action (approved or declined) will be posted on the Lender's history page.

This form will enable Ex-Im Bank to identify the specific details of the export transaction. These details are necessary for determining the eligibility of disbursements for approval.

The application can be reviewed at: www.exim.gov/pub/pending/EIB 12-02 CGF Disbursement Request.pdf.

DATES: Comments should be received on or before April 15, 2013 to be assured of consideration.

ADRESSESES: Comments maybe submitted electronically on www.regulations.gov or by mail to Kit Arendt, Export-Import Bank of the United States, 811 Vermont Ave. NW. Washington, DC 20571.

SUPPLEMENTARY INFORMATION:

Titles and Form Number: EIB 12-01 Medium-Term Master Guarantee Agreement. Disbursement Approval Request.

OMB Number: 3048-XXXX.

Type of Review: New.

Need and Use: The information requested enables the applicant to provide Ex-Im Bank with the information necessary to obtain legislatively required assurance of repayment and fulfills other statutory requirements.

The number of respondents: 50.

Time to Complete: 60 minutes.

The frequency of response: Annual.

Total number of responses received 50.

Reviewing time per hour: 60 minutes.

Responses per year: 50.

Reviewing time per year: 25 hours.

Average Wages per hour: $30.25.

Average cost per year (time * wages): $756.

Benefits and overhead: 20%.

Total Government Cost: $908.

Sharon A. Whitt,
Agency Clearance Officer.

[FR Doc. 2013-03265 Filed 2-12-13; 8:45 am]

BILLING CODE 6690-01-P